DEPARTMENT OF COMMERCE

National Oceanic and Atmospheric Administration

RIN 0648-XC879

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold a meeting of the ABC Control Working Group (SSC) and Standing and Special Reef Fish Scientific and Statistical Committees (SSC).

DATES: The meetings will be held from 1 p.m. on Tuesday, October 8 until 12 noon on Thursday, October 10, 2013.

ADDRESSES: The meetings will be held at the Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agendas are as follows:

ABC Control Rule Working Group Agenda, Tuesday, October 8, 2013, 1 p.m. Until 5 p.m.

The ABC Control Rule Working Group is a subset of the SSC that includes members from the NMFS Southeast Fisheries Science Center. Its function is to develop and evaluate potential revisions to the ABC control rule that was implemented in 2012. Agenda items for the working group include:

1. Review of Alternative Approaches to Setting ABC to Account for Scientific Uncertainty

a. Impose a pre-specified coefficient of variation into the pdf based on expert judgment of the SSC

b. Establish a buffer below OFL of 0% to 25%, based on species life history (e.g., longer-lived species get a larger buffer)

c. Modify the Tier 1 spreadsheet to develop a score that would be used to determine the number of standard deviations to add to the pdf

d. SEFSC approaches based on Ralton et al. (2011).

e. Expand the range of potential P* values in the Tier 1 spreadsheet from 30%-50% to 1%-50%.

f. Other approaches

g. Working Group recommendations

2. Other ABC Control Rule Business

Standing and Special Reef Fish SSC Agenda, Wednesday, October 9, 2013, 8:30 a.m. until 5 p.m.; Thursday, October 10, 2013, 8:30 a.m. until 12 noon.

1. Approval of August 6-8, 2013 Standing and Special Reef Fish SSC summary minutes

2. Review of Red Snapper MRIP Issues

3. Alternative Red Snapper ABCs

a. based on FSPR 26% (constant catch and constant F)

b. based on FMAX (constant catch and constant F)

4. Pros and Cons of Setting Recreational Red Snapper Quota in Numbers

5. Revised National Standard 2 Guidelines

6. ABC Control Rule Revisions and Report of the ABC Control Rule Working Group

7. Update on SEDAR Assessment Schedule

8. SEDAR 40—Red Grouper Benchmark Assessment—preliminaries

a. Review and approval of terms of reference

b. Review of schedule and selection of panel participants

9. Tentative Dates for 2014 SSC Meetings

10. Selection of SSC representative at October 28-November 1, 2013 Council meeting (New Orleans)

11. Other business

a. Review of SEDAR Assessment Schedule/Priorities

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 17, 2013.
Tracey L. Thompson,
Acting Deputy Director, Office of Sustainable Fisheries, National Marine Fisheries Service.

[FR Doc. 2013-22931 Filed 9-19-13; 8:45 am]

BILLING CODE 3510-22-P